DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 4, 2014. Address written comments to Statutory Import Programs Staff, Room 3720, U.S. Department of Commerce, Washington, DC 20230. Applications may be examined between 8:30 a.m. and 5:00 p.m. at the U.S. Department of Commerce in Room 3720.

Docket Number: 14-017. Applicant: Chehalis School District, 310 SW 16th Street, Chehalis, WA 98532. Instrument: Electron Microscope. Manufacturer: Tescan, S.R.O., Czech Republic. Intended Use: The instrument is used to study the properties of materials at the nanoscale level. Justification for Duty-Free Entry: There are no instruments of the same general category manufactured in the United States. Application accepted by Commissioner of Customs: June 10, 2014.

Docket Number: 14-018. Applicant: University of Chicago, 5801 South Ellis Avenue, Chicago, IL 60637. Instrument: Electron Microscope. Manufacturer: Brno, Czech Republic. Intended Use: The instrument is used to investigate the cellular ultrastructure at nanometer resolutions. Justification for Duty-Free Entry: There are no instruments of the same general category manufactured in the United States. Application accepted by Commissioner of Customs: June 13, 2014.

Dated: August 11, 2014.
Gregory W. Campbell,
Director of Subsidies Enforcement, Enforcement and Compliance.

[FR Doc. 2014-19406 Filed 8-14-14; 8:45 am]

BILLING CODE 3510-DS-P